DEPARTMENT OF THE INTERIOR

Fish and Wildlife Service

Aquatic Nuisance Species Task Force Risk Assessment and Management Committee Meeting

AGENCY: Fish and Wildlife Service, Interior.

ACTION: Notice of meeting.

SUMMARY: This notice announces a meeting of the Risk Assessment and Management Committee of the Aquatic Nuisance Species Task Force. The meeting topics are identified in the SUPPLEMENTARY INFORMATION.

DATES: The Committee will meet from 8:00 a.m. to 5:00 p.m., Tuesday, May 1, 2001; from 8:00 a.m. to 5:00 p.m., Wednesday, May 2, 2001; and will participate in a field trip from 9:00 a.m. to 4:30 p.m., Thursday, May 3, 2001.

ADDRESSES: The meeting will be held at the Tropical Aquaculture Lab, 1408 24th Street, Southeast, Ruskin, Florida 33570, phone (813) 671-5230.

FOR FURTHER INFORMATION CONTACT: Richard Orr, Chair, Risk Assessment and Management Committee, at (301) 734-8939 or by email at Richard L. Orr@aphis.usda.gov or Sharon Gross, Executive Secretary, Aquatic Nuisance Species Task Force at 703-358-2308 or by e-mail at: sharon_gross@fws.gov.

SUPPLEMENTARY INFORMATION: Pursuant to section 10(a)(2) of the Federal Advisory Committee Act (5 U.S.C. App. I), this notice announces a meeting of the Aquatic Nuisance Species Task Force Risk Assessment and Management Committee. The Task Force was established by the Nonindigenous Aquatic Nuisance Prevention and Control Act of 1990 (16 U.S.C. 4701-4741). Topics to be addressed at this meeting include: a discussion on the Florida Sturgeon Culture Risk Assessment status; a review status of the Caribbean Science Center's Risk Review Process library; a discussion on the final revision of the Black Carp Risk Assessment and publication options; an update on the risk assessment for the Asian Swamp eel; a discussion on revision of the RAM risk assessment process; a discussion of the policies surrounding screening processes with emphasis on precaution and uncertainty; a discussion on the development on the National Invasive Species Council (NISA) Management Plan Action Items associated with the screening of first time introductions of aquatic organisms for the ANS Task Force; a discussion on the introduced Snakehead in Florida; and a review of risk of fresh water snail introduction as vectors for Aniostrongyliasis.

Minutes of the meeting will be maintained by the Executive Secretary, Aquatic Nuisance Species Task Force, Suite 810, 4401 North Fairfax Drive, Arlington, Virginia 22203-1622, and the Chair of the Ballast Water and Shipping Committee at the Environmental Standards Division, Office of Operations and Environmental Standards, U.S. Coast Guard (G-MSO-4), 2100 Second Street, SW, room 1309, Washington, DC 20593-0001. Minutes for the meetings will be available at these locations for public inspection during regular business hours, Monday through Friday.

Dated: April 5, 2001.
Mary G. Henry,
Acting Co-Chair, Aquatic Nuisance Species Task Force, Acting Assistant Director—Fisheries and Habitat Conservation.

[FR Doc. 01-9035 Filed 4-11-01; 8:45 am]

BILLING CODE 4310-55-M